DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA). The purpose of this notice is to announce publicly the environmental decisions by FTA on the subject project and to activate the limitation on any claims that may challenge these final environmental actions.

DATES: By this notice, FTA is advising the public of final agency actions subject to 23 U.S.C. 139(l). A claim seeking judicial review of FTA actions announced herein for the listed public transportation project will be barred unless the claim is filed on or before July 13, 2020.

FOR FURTHER INFORMATION CONTACT: Nancy-Ellen Zusman, Assistant Chief Counsel, Office of Chief Counsel, (312) 353-2577 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) requirements [23 U.S.C. 138, 49 U.S.C. 303], Section 106 of the National Historic Preservation Act [54 U.S.C. 306108], and the Clean Air Act [42 U.S.C. 7401-7671q]. This notice does not, however, alter or extend the limitation period for challenges of project decisions subject to previous notices published in the Federal Register. The project and actions that are the subject of this notice follow. Project name and location: METRO Gold Line Bus Rapid Transit (BRT) Project, Twin Cities Metropolitan Area, Minnesota. Project Sponsor: The Metropolitan Council, Saint Paul, Minnesota. Project description: The project consists of a 10-mile bus transitway in Ramsey and Washington counties in the eastern part of the Twin Cities Metropolitan Area. The Project will operate parallel to I-94 and connect downtown Saint Paul with the suburban cities of Maplewood, Landfall, Oakdale and Woodbury. The Project will use 8 existing stations in downtown Saint Paul, two new stations at Union Depot, and 11 existing stations located along the remainder of the alignment. The Project will operate in a guideway dedicated to BRT for 66 percent of its route (new road construction) and in mixed traffic for 34 percent. Final agency action: Section 4(f) de minimis impact determination; executed Section 106 Programmatic Agreement, dated January 07, 2020; METRO Gold Line Bus Rapid Transit Project Finding of No Significant Impact, dated January 17, 2020. Supporting Documentation: METRO Gold Line Bus Rapid Transit Environmental Assessment, September 26, 2019.

Authority: 23 U.S.C. 139(l)(1).

Mark A. Ferroni,
Deputy Associate Administrator for Planning and Environment.

[FR Doc. 2020-02726 Filed 2-11-20; 8:45 am]

BILLING CODE P